DEPARTMENT OF COMMERCE

Patent and Trademark Office

Submission for OMB Review; Comment Request

The United States Patent and Trademark Office (USPTO), in order to extend the public comment period due to a delay in submission, is republishing the Comment Request originally published on August 11, 2009 (74 FR 40165). This notice announces the intent to submit to the Office of Management and Budget (OMB) for clearance the following proposal for collection of information under the provisions of the Paperwork Reduction Act (44 U.S.C. Chapter 35)

Agency: United States Patent and Trademark Office (USPTO).

Title: Customer Panel Quality Survey.

Form Number(s): None.

Agency Approval Number: 0651-0057.

Type of Request: Revision of a currently approved collection.

Burden: 406 hours.

Number of Respondents: 2,386 responses.

Avg. Hours per Response: The USPTO estimates that it takes the public approximately 10 minutes (0.17 hours) to complete either the paper or the online survey. This includes the time to gather the necessary information, respond to the survey, and submit it to the USPTO.

Needs and Uses: Individuals who work at firms that file more than six patent applications a year use the Customer Panel Quality Survey to provide the USPTO with their perceptions of examination quality. The USPTO uses the feedback gathered from the survey to assist them in targeting key areas for examination quality improvement and to identify important areas for examiner training.

Affected Public: Individuals or households; business or other for profit; and not-for-profit institutions.

Frequency: Semi-annually.

Respondent's Obligation: Voluntary.

OMB Desk Officer: Nicholas A. Fraser, e-mail: Nicholas_A._Fraser@omb.eop.gov.

Once submitted, the request will be publically available in electronic format through the Information Collection Review page at http://www.reginfo.gov.

Paper copies can be obtained by:

* E-mail: Susan.Fawcett@uspto.gov. Include “0651-0057 Customer Panel Quality Survey copy request” in the subject line of the message.

* Fax: 571-273-0112, marked to the attention of Susan K. Fawcett.

* Mail: Susan K. Fawcett, Records Officer, Office of the Chief Information Officer, Administrative Management Group, U.S. Patent and Trademark Office, P.O. Box 1450, Alexandria, VA 22313-1450.

Written comments and recommendations for the proposed information collection should be sent on or before October 19, 2009 to Nicholas A. Fraser, OMB Desk Officer, via e-mail at Nicholas_A._Fraser@omb.eop.gov or by fax to 202-395-5167, marked to the attention of Nicholas A. Fraser.

Dated: September 10, 2009.
Susan K. Fawcett,
Records Officer, USPTO, Office of the Chief Information Officer, Administrative Management Group.

[FR Doc. E9-22376 Filed 9-16-09; 8:45 am]

BILLING CODE 3510-16-P